AGENCY FOR INTERNATIONAL DEVELOPMENT

Bureau for Democracy, Conflict and Humanitarian Assistance, Office of Food for Peace; Announcement of Draft FY 2007 Food for Peace Guidelines and Procedures for International Food Relief Partnership Transportation and Distribution Applications; Notice

Pursuant to the Agricultural Trade Development and Assistance Act of 1954 (Pub. L. 480, as amended), notice is hereby given that the draft FY 2007 Food for Peace Guidelines and Procedures for International Food Relief Partnership Transportation and Distribution Applications are available to interested parties for general viewing and comments.

Individuals who wish to access the draft guidelines and procedures should visit the Food for Peace Web site at http://www.usaid.gov/our_work/humanitarian_assistance/ffp/, or contact the Office of Food for Peace, via AMEX International, Attn: 2007 IFRP Applications, 1300 Pennsylvania Avenue, NW., Suite 700, Washington, DC 20004 or IFRP@amexdc.com.

William Hammink,
Director, Office of Food for Peace, Bureau for Democracy, Conflict and Humanitarian Assistance.

[FR Doc. E6-19256 Filed 11-14-06; 8:45 am]

BILLING CODE 6116-01-P